DEPARTMENT OF THE INTERIOR

Bureau of Land Management

[212.LLAK941200.L1440000.ET0000; A-62024]

Notice of Proposed Withdrawal Extension and Opportunity for Public Meeting; Alaska

AGENCY: Bureau of Land Management, Interior.

ACTION: Notice.

SUMMARY: In accordance with Section 204 of the Federal Land Policy and Management Act of 1976, as amended (FLPMA), the Secretary of the Interior proposes to extend the withdrawal of approximately 730.13 acres of public lands located in Anchorage, Alaska, for an additional 20-year term. The withdrawal created by Public Land Order (PLO) No. 6127, as extended by PLO No. 7471, expires on February 11, 2022. PLO No. 6127 withdrew public land from settlement, sale, location, or entry, under the general land laws, including mining laws, and from selection under Section 6 of the Alaska Statehood Act for the Campbell Tract administrative site, and reserved for use by the Bureau of Land Management (BLM) for administrative site in Anchorage, Alaska. This Notice provides for the public to comment and request a public meeting for the 20-year withdrawal extension.

DATES: Comments and requests for a public meeting must be received by October 6, 2021.

ADDRESSES: Comments and public meeting requests should be sent to the Alaska State Director, BLM Alaska State Office, 222 West Seventh Avenue, No. 13, Anchorage, Alaska 99513-7504 or by email at blm_ak_state_director@blm.gov.

FOR FURTHER INFORMATION CONTACT: Chelsea Kreiner, BLM Alaska State Office, 907-271-4205, email ckreiner@blm.gov or you may contact the BLM office at the address noted above. Persons who use a Telecommunications Device for the Deaf (TDD) may call the Federal Relay Service (FRS) at 1-800-877-8339 to contact the above individual. The FRS is available 24 hours a day, 7 days a week. You will receive a reply during normal business hours.

SUPPLEMENTARY INFORMATION: At the request of the Bureau of Land Management Anchorage Field Office, the Secretary of the Interior proposes that PLO No. 6127 (47 FR 6277, (1982)), as extended by PLO No. 7471 (65 FR 71333, (2000)), be extended for an additional 20-year term.

A complete description of the public land affected, along with all other records pertaining to this extension, can be examined in the BLM Alaska State Office at the address shown above.

Notice is hereby given that an opportunity for a public meeting is available in connection with this proposed withdrawal extension. All interested parties who desire a public meeting for the purpose of being heard on this withdrawal extension application must submit a written request to the BLM Alaska State Director. Upon determination by the authorized officer that a public meeting will be held, the BLM will publish a notice of the time and place in the Federal Register at least 30 days before the scheduled date of the meeting.

The withdrawal extension application will be processed in accordance with the regulations set-forth in 43 CFR 2310.4 and subject to Section 810 of the Alaska National Interest Lands Conservation Act, (16 U.S.C. 3120).

For a period until October 6, 2021 all persons who wish to submit comments, suggestions, or objections in connection with this proposed withdrawal extension may present their views in writing to the BLM Alaska State Director at the address indicated above. Before including your address, phone number, email address, or other personal identifying information in your comment, you should be aware that your entire comment including your personal identifying information may be made publicly available at any time. While you can ask us in your comment to withhold your personal identifying information from public review, we cannot guarantee that we will be able to do so.

(Authority: 43 CFR 2310.4)

Chad B. Padgett,
Alaska State Director.

[FR Doc. 2021-14534 Filed 7-7-21; 8:45 am]

BILLING CODE 4310-JA-P